DEPARTMENT OF COMMERCE

National Oceanic and Atmospheric Administration

RIN 0648-XB31

Marine Mammals; File No. 1127-1921

AGENCY: National Marine Fisheries Service (NMFS), National Oceanic and Atmospheric Administration (NOAA), Commerce.

ACTION: Notice; receipt of application.

SUMMARY: Notice is hereby given that the Hawaii Marine Mammal Consortium, PO Box 6107, Kamuela, HI 96743, has applied in due form for a permit to conduct research on 24 cetacean species found in Hawaiian waters.

DATES: Written, telefaxed, or e-mail comments must be received on or before August 10, 2007.

ADDRESSES: The application and related documents are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)973-2935; fax (808)973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 1127-1921.

FOR FURTHER INFORMATION CONTACT: Brandy Hutnak or Carrie Hubard, (301)713-2289.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

The Hawaii Marine Mammal Consortium seeks a five year permit to conduct research on 24 cetacean species, including the following endangered species: blue whale (Balaenoptera musculus), fin whale (B. physalus), humpback whale (Megaptera novaeangliae), sei whale (B. borealis), and sperm whale (Physeter macrocephalus). The objectives of the research are to assess the status, numbers, distribution, and life histories of cetacean species in Hawaiian waters. The type of take involved would consist of Level A harassment (biopsy sampling) and Level B harassment (close approach, photo-id, audio recording, underwater photography and video, photogrammetry, and collection of sloughed skin and fecal samples). All age classes, except mothers and associated calves less than one year old, would be biopsy sampled. The core study area is the leeward coast of the island of Hawaii, but activities might be conducted in any of the near shore waters of the main and northwestern Hawaiian Islands, including waters off the Northwestern Hawaiian Islands Marine National Monument. No mortality or incidental harassment of non-target species is being requested.

Concurrent with the publication of this notice in the Federal Register, NMFS is forwarding copies of this application to the Marine Mammal Commission and its Committee of Scientific Advisors.

Dated: July 5, 2007.
P. Michael Payne,
Chief, Permits, Conservation and Education Division, Office of Protected Resources, National Marine Fisheries Service.

[FR Doc. E7-13474 Filed 7-10-07; 8:45 am]

BILLING CODE 3510-22-S